DEPARTMENT OF THE INTERIOR

Bureau of Land Management

[ID 100 1220MA 241A: DBG071010]

Notice of Public Meeting: Resource Advisory Council to the Boise District, Bureau of Land Management, U.S. Department of the Interior

AGENCY: Bureau of Land Management, U.S. Department of the Interior.

ACTION: Notice of Public Meeting.

SUMMARY: In accordance with the Federal Land Policy and Management Act (FLPMA) and the Federal Advisory Committee Act of 1972 (FACA), the U.S. Department of the Interior, Bureau of Land Management (BLM) Boise District Resource Advisory Council (RAC), will hold a meeting as indicated below.

DATES: The meeting will be held October 3, 2007, beginning at 9 a.m. and adjourning at 3 p.m. The meeting will be held at the Boise District Office located at 3948 S. Development Avenue, Boise, Idaho. Public comment periods will be held at intervals throughout the meeting.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho.

The Board will receive a briefing on the wildland fires that have occurred within the District, and planned rehabilitation efforts. The RAC will be given a brief status report on the Bruneau Resource Management Plan (RMP).

A presentation will be given about a wind energy project located in the Owyhee Field Office by Ridgeline Energy, Inc. Hot Topics will be discussed by the District Manager and Field Office managers will provide highlights on activities in their offices.

Agenda items and location may change due to changing circumstances, including wildfire emergencies. All meetings are open to the public. The public may present written comments to the Council. Each formal Council meeting will also have time allocated for hearing public comments. Depending on the number of persons wishing to comment and time available, the time for individual oral comments may be limited. Individuals who plan to attend and need special assistance, such as sign language interpretation, or other reasonable accommodations, should contact the BLM Coordinator as provided above.

Dated: August 31, 2007.
David Wolf,
Associate, District Manager.

[FR Doc. E7-17684 Filed 9-6-07; 8:45 am]

BILLING CODE 4310-GG-P